DEPARTMENT OF ENERGY

Federal Energy Regulatory Commission

[Project No. 14253-000]

Lock+ Hydro Friends Fund IV; Notice of Preliminary Permit Application Accepted for Filing and Soliciting Comments, Motions To Intervene, and Competing Applications

On August 10, 2011, the Lock+ Hydro Friends Fund IV filed an application for a preliminary permit under section 4(f) of the Federal Power Act proposing to study the feasibility of the proposed USACE LD 17 Project No. 14253, to be located at the existing Mississippi River Lock and Dam No. 17 on the Mississippi River, near the City of New Boston, in Mercer County, Illinois. The Mississippi River Lock and Dam No. 17 is owned by the United States government and operated by the Army Corps of Engineers.

The proposed project would consist of: (1) Three new 109-foot-wide by 40-foot-high steel lock frame modules each containing ten 650-kilowatt hydropower turbines having a total combined generating capacity of 19.5 megawatts; (2) one new 109-foot-wide and one new 220-foot-wide tailrace extending 75-150 feet downstream; (3) a new 25-foot by 50-foot switchyard; (4) a new intake structure of undetermined size; (5) a new 6-mile-long, 69-kilovolt transmission line; and (6) appurtenant facilities. The project would have an estimated annual generation of 119,655 megawatt-hours.

Applicant Contact: Mr. Wayne F. Krouse, 5090 Richmond Avenue, #390, Houston, TX 77056; (877) 556-6566, extension 709.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments.

For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application can be viewed or printed on the “eLibrary” link of Commission's Web site at http://www.ferc.gov/docs-filing/elibrary.asp. Enter the docket number (P-14253) in the docket number field to access the document. For assistance, contact FERC Online Support.

Dated: August 29, 2011.
Kimberly D. Bose,
Secretary.

[FR Doc. 2011-22515 Filed 9-1-11; 8:45 am]

BILLING CODE 6717-01-P